DEPARTMENT OF JUSTICE

Notice of Lodging of Settlement Agreement Under the Comprehensive Environmental Response, Compensation and Liability Act

In accordance with 28 CFR 50.7 and section 122 of the Comprehensive Environmental Response, Compensation and Liability Act (“CERCLA”), 42 U.S.C. 9622, notice is hereby given that on February 2, 2005, a proposed Settlement Agreement in In re: Polaroid Corporation, et al., Case No. 01-10864 (PJW), was lodged with the United States Bankruptcy Court for the District of Delaware.

In this action the United States, on behalf of the United States Environmental Protection Agency (“EPA”), timely filed a Proof of Claim against Polaroid Corporation pursuant to section 107(a) of CERCLA, as amended, 42 U.S. 9607, in connection with the Peterson/Puritan, Inc. Superfund Site, located in the towns of Cumberland and Lincoln, Rhode Island (the “Site”). Pursuant to the terms of the Settlement Agreement between the United States and Reorganized Polaroid, the United States shall have an allowed general unsecured claim in the amount of $11 million, and Reorganized Polaroid shall receive a covenant not to sue for future response costs relating to the Site and as provided in the Settlement Agreement.

The Department of Justice will receive for a period of thirty (30) days from the date of this publication comments relating to the Settlement Agreement. Comments should be addressed to the Assistant Attorney General, Environment and Natural Resources Division, P.O. Box 7611, U.S. Department of Justice, Washington, DC 20044-7611, and should refer to In re: Polaroid Corporation, et al., Case No. 01-10864 (PJW).

The Settlement Agreement may be examined at the offices of EPA Region I, One Congress Street, Suite 1100, SES, Boston, MA 02114-2023. During the public comment period, the Settlement Agreement may also be examined on the following Department of Justice Web site: http://www.usdoj.gov/enrd/open.html. A copy of the Settlement Agreement may also be obtained by mail from the Consent Decree Library, P.O. Box 7611, U.S. Department of Justice, Washington, DC 20044-7611 or by faxing or e-mailing a request to Tonia Fleetwood (tonia.fleetwood@usdoj.gov), a fax no. (202) 514-0097, phone confirmation number (202) 514-1547. In requesting a copy from the Consent Decree Library, please enclose a check in the amount of $2.25 (25 cents per page reproduction cost), payable to the U.S. Treasury.

Ronald Gluck,
Assistant Section Chief, Environmental Enforcement Section, Environment and Natural Resources Division.

[FR Doc. 05-3013 Filed 2-16-05; 8:45 am]

BILLING CODE 4410-15-M